DEPARTMENT OF VETERANS AFFAIRS

[OMB Control No. 2900-New (DBQs—Group 4)]

Agency Information Collection (Disability Benefits Questionnaires—Group 4) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before November 2, 2011.

ADDRESSES: Submit written comments on the collection of information through http://www.Regulations.gov or to VA's OMB Desk Officer, OMB Human Resources and Housing Branch, New Executive Office Building, Room 10235, Washington, DC 20503 (202) 395-7316. Please refer to “OMB Control No. 2900-New (DBQs-Group 4)” in any correspondence.

FOR FURTHER INFORMATION CONTACT: Denise McLamb, Enterprise Records Service (005R1B), Department of Veterans Affairs, 810 Vermont Avenue, NW., Washington, DC 20420, (202) 461-7485, fax (202) 461-0966 or e-mail denise.mclamb@va.gov. Please refer to “OMB Control No. 2900-New (DBQs-Group 4).”

SUPPLEMENTARY INFORMATION:

Titles:

Cranial Nerve Conditions Disability Benefits Questionnaire, VA Form 21-0960C3.

Narcolepsy Disability Benefits Questionnaire, VA Form 21-0960C6.

Fibromyalgia Disability Benefits Questionnaire, VA Form 21-0960C7.

Seizure Disorders (Epilepsy) Disability Benefits Questionnaire, VA Form 21-0960C11.

Dental and Oral Conditions, including Mouth, Lips, and Tongue (Other than Temporomandibular Joint Conditions) Disability Benefits Questionnaire, VA Form 21-0960D1.

Endocrine Diseases (other than Thyroid, Parathyroid or Diabetes Mellitus). Disability Benefits Questionnaire, VA Form 21-0960-E-2.

Thyroid & Parathyroid Conditions Disability Benefits Questionnaire, VA Form 21-0960-E-3.

Hernias (Including Abdominal, Inguinal, and Femoral Hernias) Disability Benefits Questionnaire, VA Form 21-0960-H-1.

HIV-Related Illnesses Disability Benefits Questionnaire, VA Form 21-0960-I-2.

Infectious Diseases (Other Than HIV-Related Illness, Chronic Fatigue Syndrome, or Tuberculosis) Disability Benefits Questionnaire, VA Form 21-0960-I-3.

Systemic Lupus Erythematosus (SLE) and Other Autoimmune Diseases Disability Benefits Questionnaire, VA Form 21-0960-I-4.

Nutritional Deficiencies Disability Benefits Questionnaire, VA Form 21-0960-I-5.

Urinary Tract (including Bladder & Urethra) Conditions (excluding Male Reproductive System) Disability Benefits Questionnaire, VA Form 21-0960-J-4.

Respiratory Conditions (other than Tuberculosis and Sleep Apnea) Disability Benefits Questionnaire, VA Form 21-0960-L-1.

Loss of Sense of Smell and/or Taste Disability Benefits Questionnaire, VA Form 21-0960-N-3.

Sinusitis/Rhinitis and Other Conditions of the Nose, Throat, Larynx, and Pharynx Disability Benefits Questionnaire, VA Form 21-0960-N-4.

Chronic Fatigue Syndrome Disability Benefits Questionnaire, VA Form 21-0960-Q-1.

OMB Control Number: 2900-New (DBQs—Group 4).

Type of Review: New collection.

Abstract: Data collected on VA Form 21-0960 series will be used to obtain information from claimants' treating physician that is necessary to adjudicate a claim for disability benefits.

An agency may not conduct or sponsor, and a person is not required to respond to a collection of information unless it displays a currently valid OMB control number. The Federal Register Notice with a 60-day comment period soliciting comments on this collection of information was published on July 27, 2011, at pages 45008-45008.

Affected Public: Individuals or households.

Estimated Annual Burden:

a. VAF 21-0960-C-3—5,000.

b. VAF 21-0960-C-6—1,250.

c. VAF 21-0960-C-7—1,250.

VAF 21-0960-C-11—1,250.

VAF 21-0960-D-1—1,250.

VAF 21-0960-E-2—2,500.

d. VAF 21-0960-E-3—2,500.

VAF 21-0960-H-1—3,750.

e. VAF 21-0960-I-2—1,250.

f. VAF 21-0960-I-3—2,500.

VAF 21-0960-I-4—2,500.

g. VAF 21-0960-I-5—1,250.

VAF 21-0960-J-4—3,750.

VAF 21-0960-L-1—10,000.

VAF 21-0960-N-3—1,250.

VAF 21-0960-N-4—10,000.

VAF 21-0960-Q-1—2,500.

Estimated Average Burden per Respondent:

a. VAF 21-0960-C-3—30 minutes.

b. VAF 21-0960-C-6—15 minutes.

c. VAF 21-0960-C-7—15 minutes.

VAF 21-0960-C-11—15 minutes.

VAF 21-0960-D-1—15 minutes.

VAF 21-0960-E-2—15 minutes.

d. VAF 21-0960-E-3—15 minutes.

VAF 21-0960-H-1—15 minutes.

e. VAF 21-0960-I-2—15 minutes.

f. VAF 21-0960-I-3—15 minutes.

VAF 21-0960-I-4—30 minutes.

g. VAF 21-0960-I-5—15 minutes.

VAF 21-0960-J-4—15 minutes.

VAF 21-0960-L-1—30 minutes.

VAF 21-0960-N-3—15 minutes.

VAF 21-0960-N-4—30 minutes.

VAF 21-0960-Q-1—15 minutes.

Frequency of Response: On occasion.

Estimated Number of Respondents:

a. VAF 21-0960-C-3—10,000.

b. VAF 21-0960-C-6—5,000.

c. VAF 21-0960-C-7—5,000.

VAF 21-0960-C-11—5,000.

VAF 21-0960-D-1—5,000.

VAF 21-0960-E-2—10,000.

d. VAF 21-0960-E-3—10,000.

VAF 21-0960-H-1—15,000.

e. VAF 21-0960-I-2—5,000.

f. VAF 21-0960-I-3—10,000.

VAF 21-0960-I-4—5,000.

g. VAF 21-0960-I-5—5,000.

VAF 21-0960-J-4—15,000.

VAF 21-0960-L-1—20,000.

VAF 21-0960-N-3—5,000.

VAF 21-0960-N-4—20,000.

VAF 21-0960-Q-1—10,000.

Dated: September 28, 2011.
By direction of the Secretary.
Denise McLamb,
Program Analyst, Enterprise Records Service.

[FR Doc. 2011-25382 Filed 9-30-11; 8:45 am]

BILLING CODE 8320-01-P